ENVIRONMENTAL PROTECTION AGENCY

[EPA-R08-SFUND-2024-0469; FRL-12306-01-R8]

Settlement Agreement and Order on Consent: Uintah Mining District Site Summit County, Utah

AGENCY: Environmental Protection Agency (EPA).

ACTION: Notice of proposed agreement; request for public comment.

SUMMARY: In accordance with the Comprehensive Environmental Response, Compensation, and Liability Act (“CERCLA”), notice is hereby given by the United States Environmental Protection Agency (“EPA”) and VR CPC Holdings, Inc. (“Respondent”). The proposed settlement agreement provides for the performance of a removal action by Respondent and the payment by Respondent of certain response costs incurred by the United States at or in connection with certain portions of the “Uintah Mining District Site” (the “Site”) generally located in Summit County, Utah. EPA and the Respondent recognize that this settlement has been negotiated in good faith and that the actions undertaken by Respondent in accordance with this settlement do not constitute an admission of any liability.

DATES: Comments must be submitted on or before December 26, 2024.

ADDRESSES: The proposed agreement and additional background information relating to the agreement will be available upon request. Comments and requests for a copy of the proposed agreement should be addressed to Sarah Ferguson, Enforcement Specialist, Superfund and Emergency Management Division, Environmental Protection Agency—Region 8, Mail Code 8SEM-PAC, 1595 Wynkoop Street, Denver, Colorado 80202, telephone number: (303) 312-6029, email address: ferguson.sarah@epa.gov and should reference the Uintah Mining District Superfund Site. You may also send comments, identified by Docket ID No. EPA-R8-SFUND-2024-0469 to https://www.regulations.gov. Follow the online instructions for submitting comments.

FOR FURTHER INFORMATION CONTACT: Amelia Piggott, Assistant Regional Counsel, Office of Regional Counsel, Environmental Protection Agency, Region 8, Mail Code 8 ORC-LEC,1595 Wynkoop, Denver, Colorado 80202, telephone number: (303) 312-6410, email address: piggott.amelia@epa.gov.

SUPPLEMENTARY INFORMATION: For thirty (30) days following the date of publication of this document, the Agency will receive written comments relating to the agreement. The Agency will consider all comments received and may modify or withdraw its consent to the agreement if comments received disclose facts or considerations that indicate that the agreement is inappropriate, improper, or inadequate.

Aaron Urdiales,
Division Director, Superfund and Emergency Management Division, Region 8.

[FR Doc. 2024-27653 Filed 11-25-24; 8:45 am]

BILLING CODE 6560-50-P